ENVIRONMENTAL PROTECTION AGENCY

[EPA-HQ-OAR-2020-0312; FRL-7887-04-OAR]

Release of Volume 3 of the Integrated Review Plan in the Review of the Lead National Ambient Air Quality Standards; Extension of Comment Period

AGENCY: Environmental Protection Agency (EPA).

ACTION: Notice of availability; public comment period; extension.

SUMMARY: The Environmental Protection Agency (EPA) is extending the public comment period by 30 days for Volume 3 of the Integrated Review Plan for the Lead National Ambient Air Quality Standards (IRP). The original Federal Register document announcing the public comment period was published on May 15, 2023.

DATES: The public comment period for the notice published on May 15, 2023 (88 FR 30966), is being extended by 30 days. The EPA must receive comments on or before July 14, 2023.

ADDRESSES: You may send comments on Volume 3 of the IRP, identified by Docket ID No. EPA-HQ-OAR-2020-0312, by any of the following methods:

• Federal eRulemaking Portal: https://www.regulations.gov/ (our preferred method). Follow the online instructions for submitting comments.

• Mail: U.S. Environmental Protection Agency, EPA Docket Center, Office of Air and Radiation Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Instructions: All submissions received must include the Docket ID No. for this notice. Comments received may be posted without change to https://www.regulations.gov, including any personal information provided. For detailed instructions on sending comments, see the SUPPLEMENTARY INFORMATION section of this document. Volume 3 of the IRP is available on the EPA's website at https://www.epa.gov/naaqs/lead-pb-air-quality-standards. The document is accessible under “Planning Documents” for the current review.

FOR FURTHER INFORMATION CONTACT: Dr. Deirdre L. Murphy, Office of Air Quality Planning and Standards, U.S. Environmental Protection Agency, Mail Code: C504-06, 109 T.W. Alexander Drive, P.O. Box 12055, NC 27711; telephone number: 919-541-0729; or email: murphy.deirdre@epa.gov.

SUPPLEMENTARY INFORMATION:

I. General Information

Written Comments

Submit your comments, identified by Docket ID No. EPA-HQ-OAR-2020-0312, at https://www.regulations.gov (our preferred method), or the other methods identified in the ADDRESSES section. Once submitted, comments cannot be edited or removed from the docket. The EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

Erika Sasser,
Director, Health and Environmental Impacts Division.

[FR Doc. 2023-12846 Filed 6-14-23; 8:45 am]

BILLING CODE 6560-50-P